SPECIAL INSPECTOR GENERAL FOR AFGHANISTAN RECONSTRUCTION

5 CFR Part 9303

RIN 3460-AA01

Supplemental Standards of Ethical Conduct for Employees

AGENCY: Special Inspector General for Afghanistan Reconstruction.

ACTION: Final rule.

SUMMARY: The Special Inspector General for Afghanistan Reconstruction (SIGAR), with the concurrence of the Office of Government Ethics (OGE), is adopting as final, without changes, an interim rule for SIGAR employees that will supplement the executive branch-wide Standards of Ethical Conduct (Standards) issued by OGE. The final supplemental regulation includes a requirement that SIGAR employees obtain prior approval for certain types of outside activities. The interim final rule was published in the Federal Register on April 6, 2012

DATES: Effective Date: June 29, 2012.

FOR FURTHER INFORMATION CONTACT:

Technical information: Christina Beach, Ethics Compliance Officer, 703-545-5994, email: christina.k.beach.civ@mail.mil.

Legal information: Patricia Papas, Associate General Counsel, 703-545-5992, email: patricia.p.papas.civ@mail.mil.

SUPPLEMENTARY INFORMATION: On April 6, 2012, SIGAR published, with OGE concurrence, in the Federal Register (77 FR 20697) an interim final rule that requires SIGAR employees to obtain prior approval for certain types of outside activities.

SIGAR provided a 60-day comment period that ended on June 5, 2012. SIGAR received no comments and will not be making any changes to the interim final rule. Based on the rationale set forth in the interim final rule, SIGAR has determined, with OGE concurrence, to adopt the interim final rule without change as a final rule.

For a detailed analysis of this final rule, see the preamble of the interim final rule as published in 77 FR 20697.

I. Matters of Regulatory Procedure

Administrative Procedure Act

This document affirms as final, without change, the interim final rule that is already in effect. In accordance with 5 U.S.C. 1103(b)(1) and 1105, these regulations are not subject to the rulemaking requirements of the Administrative Procedure Act, at 5 U.S.C. 553 (b), (c), and (d), because they apply solely to SIGAR or its employees.

Regulatory Flexibility Act

As Acting Inspector General of SIGAR, I have determined under the Regulatory Flexibility Act (5 U.S.C. chapter 6) that this rule will not have a significant economic impact on a substantial number of small entities because it will primarily affect SIGAR employees.

Paperwork Reduction Act

As Acting Inspector General of SIGAR, I have determined that the Paperwork Reduction Act (44 U.S.C. chapter 35) does not apply to this rule, because it does not contain any information collection requirements that would require the approval of the Office of Management and Budget.

Unfunded Mandates Reform Act

For purposes of the Unfunded Mandates Reform Act of 1995 (2 U.S.C. chapter 25, subchapter II), this rule would not significantly or uniquely affect small governments and would not result in increased expenditures by State, local, and tribal governments, or by the private sector, of $100 million or more (as adjusted for inflation) in any one year.

Congressional Review Act

I have determined that this rule is not a rule as defined in 5 U.S.C. 804 and, thus, does not require review by Congress.

Executive Order 12866

In promulgating this rule, SIGAR has adhered to the regulatory philosophy and the applicable principles of regulation set forth in section 1 of Executive Order 12866, Regulatory Planning and Review. This rule has not been reviewed by the Office of Management and Budget under that Executive Order, since it deals with agency organization, management, and personnel matters and is not in any way event deemed “significant” thereunder.

Executive Order 12988

As Acting Inspector General of SIGAR, I have reviewed this rule in light of section 3 of Executive Order 12988, Civil Justice Reform, and certify that it meets the applicable standards provided therein.

List of Subjects in 5 CFR Part 9303

Conflict of interests, Government employees.

Authority and Issuance

For the reasons stated above, the Special Inspector General for Afghanistan Reconstruction, with the concurrence of the Office of Government Ethics, is submitting the document to the Office of the Federal Register for publication as an official document of the Special Inspector General for Afghanistan Reconstruction.

Accordingly, the interim final rule amending 5 CFR part 9303, which was published at 77 FR 20697 on April 6, 2012, is adopted as a final rule without change.

Dated: June 19, 2012.
Steven J. Trent,
Acting Inspector General, Special Inspector General for Afghanistan Reconstruction.
Approved: June 25, 2012.
Don W. Fox,
Acting Director, Office of Government Ethics.

[FR Doc. 2012-16023 Filed 6-28-12; 8:45 am]

BILLING CODE 3710-L9-P